DEPARTMENT OF STATE

[Public Notice: 12271]

Designation of Kata'ib Sayyid al-Shuhada and Hashim Finyan Rahim al-Saraji as Specially Designated Global Terrorists

Acting under the authority of and in accordance with section 1(a)(ii)(A) of Executive Order 13224, as amended (“E.O. 13224” or “Order”), I hereby determine that the person known as Kata'ib Sayyid al-Shuhada (also known as KSS, Battalion of the Sayyid's Martyrs, The Master of the Martyrs Brigade, Kata'ib Abu Fadl al-Abbas, and Kata'ib Karbala) is a foreign person who has committed or attempted to commit, poses a significant risk of committing, or has participated in training to commit, acts of terrorism that threaten the security of U.S. nationals or the national security, foreign policy, or economy of the United States.

Additionally, under the authority of and in accordance with section 1(a)(ii)(B) of Executive Order 13224, I hereby determine that the person known as Hashim Finyan Rahim al-Saraji (also known as Hashim Bunyan al-Siraji, Hashim Banyan ul Awliya, Ali Abd-al-Zahra Hafiz al-Sarayji, and Abu Ala al Walai) is a leader of Kata'ib Sayyid al-Shuhada, an entity whose property and interests in property are concurrently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: November 16, 2023.
Antony J. Blinken,
Secretary of State.

[FR Doc. 2023-26103 Filed 11-27-23; 8:45 am]

BILLING CODE 4710-AD-P